DEPARTMENT OF DEFENSE

Department of the Army

Armed Forces Epidemiological Board; Meeting

AGENCY: Department of the Army; DoD.

ACTION: Notice of open meeting.

SUMMARY: In accordance with section 10(a)(2) of Public Law 92-463, The Federal Advisory Committee Act, announcement is made of the following meeting:

Name of Committee: Armed Forces Epidemiological Board (AFEB).

Dates: September 16-17, 2003.

Times: 7:30 a.m.-6:30 p.m. (September 16, 2003). 7:30 a.m.-5 p.m. (September 17, 2003).

Location: Conference Room on the 2nd Deck of the Submarine Force Museum.

Agenda: The purpose of the meeting is to address pending and new Board issues, provide briefings for Board members on topics related to ongoing and new Board issues, conduct subcommittee meetings, and conduct an executive working session.

FOR FURTHER INFORMATION CONTACT: Colonel James R. Riddle, Executive Secretary, Armed Forces Epidemiological Board, Skyline Six, 5109 Leesburg Pike, Room 682, Falls Church, VA 22041-3258.

SUPPLEMENTARY INFORMATION: This meeting will be open to the public, but limited by space accommodations. Any interested person may attend, appear before or file statements with the committee at the time and in the manner permitted by the committee.

Luz D. Ortiz,
Army Federal Register Liaison Officer.

[FR Doc. 03-20910 Filed 8-14-03; 8:45 am]

BILLING CODE 3710-08-M